FEDERAL HOUSING FINANCE BOARD

Sunshine Act Meeting: Announcing an Open Meeting of the Board

TIME AND DATE: 10 a.m., Friday, June 23, 2000.

PLACE: Board Room, Second Floor, Federal Housing Finance Board, 1777 F Street, N.W., Washington, D.C. 20006.

STATUS: The entire meeting will be open to the public.

MATTERS TO BE CONSIDERED DURING PORTIONS OPEN TO THE PUBLIC:

• Final Rule: Amendments to Membership Regulation and Advances Regulation.

• Final Rule: Election of Federal Home Loan Bank Directors.

• Resolution Required by Section 608 of the Federal Home Loan Bank Modernization Act Certifying that Withdrawal of Bank System Members will not cause the Bank System to fail to meet its REFCorp Obligations.

CONTACT PERSON FOR MORE INFORMATION: Elaine L. Baker, Secretary to the Board, (202) 408-2837.

William W. Ginsberg,
Managing Director.

[FR Doc. 00-16009 Filed 6-20-00; 4:59 pm]

BILLING CODE 6725-01-P